DEPARTMENT OF JUSTICE

National Institute of Corrections

Solicitation for a Cooperative Agreement—IBM Instructional Guide and Assessment Tool Development

AGENCY: National Institute of Corrections, U.S. Department of Justice.

ACTION: Solicitation for a Cooperative Agreement.

SUMMARY: The National Institute of Corrections (NIC) is soliciting proposals from organizations, groups, or individuals to enter into a cooperative agreement for a 12-month period to begin no later than September 15, 2013. Work under this cooperative agreement will involve the development of an instructional guide and assessment tool(s) that will help jail practitioners improve their assessment of inmate needs and management of inmate behavior. Needs are defined as the physical or psychological requirement for well-being. Inmates have a variety of needs that should be identified and managed during their stay in jail. This project will be a collaborative venture with the NIC Jails Division.

NIC Opportunity Number: 13JD04. This number should appear in the reference line in your cover letter, on Standard Form 424 in section 11 with the title of your proposal, and in the right justified header of your proposal.

Number of Awards and Funds Available: Under this solicitation, one award will be made. The total amount of funds available under this solicitation is $30,000.00. Funds awarded under this solicitation may only be used for activities directly related to the project as described herein unless otherwise amended in writing by NIC.

Applications: All applicants must be submitted electronically via http://www.grants.gov. Hand delivered, mailed, faxed, or emailed applications will not be accepted.

DATES: Application must be submitted before midnight on Wednesday, July 3, 2013.

Authority: Pub. L. 93-415.

Eligibility of Applicants: An eligible applicant is any public or private agency, educational institution, organization, individual or team with expertise in the described areas.

SUPPLEMENTARY INFORMATION:

Background: The National Institute of Corrections (NIC) has identified six key elements in the effective management of inmate behavior in jails:

—Assessing the risks and needs of each inmate at various points during his/her detention

—Assigning inmates to appropriate housing

—Meeting inmates' basic needs

—Defining and conveying expectations for inmate behavior

—Supervising inmates

—Keeping inmates productively occupied

If a jail fully and properly implements all six elements, it should experience a significant reduction in the unwanted and negative inmate behavior often experienced in jails, such as vandalism, violence, rule violations, and disrespectful behavior toward staff and other inmates.

The NIC Jails Division offers training and technical assistance on inmate behavior management but wishes to develop additional tools that will help jails implement the individual elements.

Scope of Work: The awardee will produce an instructional guide and assessment tool(s) that have received initial editing from a professional editor. NIC will be responsible for the final editing process, but the awardee will remain available during this time to answer questions and to make revisions to the materials.

The list below shows the major activities required to complete the project. Document development will begin upon award of this agreement and must be complete 12 months after the award date. The schedule for completion of activities should include, at a minimum, the following activities. The awardee will:

—Meet with the NIC project manager for an overview of the project and initial planning

—Review materials provided by NIC

—Review needs assessment tool(s) that are currently available

—Complete the initial outline of a guide, a draft of the tool(s) content, and layout

—Meet with the NIC project manager to review, discuss, and agree on the content outline

—Pilot test the assessment tool(s) in at least two selected jurisdictions

—Provide a report on the outcome of the pilot tests and make adjustments as necessary

—Submit a draft of the assessment tool(s) and instructional guide to NIC for review

—Revise the items for NIC's approval

—Submit the material to NIC in hard copy and on disk in an agreed upon format, e.g. Microsoft Word or Excel.

Throughout the project period, the awardee should make provision for meetings with NIC staff to be held in Washington, DC, at critical planning and review points in document development. Meetings can be accomplished using internet conferencing such as WebEx.

Jail administrators and management staff comprise the audience for these materials. This guide is intended for use by jails of all sizes. In developing the assessment tool(s) and instructional guide, the awardee must take into account the diversity of jails in terms of size and resources and the sometimes severe resource limitations many jails face.

Jail practitioners will use these tools to assess inmate needs at the time of entry to a facility and at various points during incarceration. The tool(s) will work in conjunction with the assessment of risk tools. The products will be companions to other materials NIC is developing on inmate behavior management.

Deliverables: Deliverables for this project include completed assessment tool(s) that have been professionally edited and an instructional guide for the tool(s) submitted in Word format.

FOR FURTHER INFORMATION CONTACT: All technical or programmatic questions concerning this announcement should be directed to Fran Zandi, Correctional Program Specialist, National Institute of Corrections who may be reached by email at fzandi@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” (13JD04) and title in this announcement, “IBM Instructional Guide and Assessment Tool Development.” The package must include: a cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf.

Failure to supply all required forms with the application package may result in disqualification of the application from consideration.

Note: NIC will NOT award a cooperative agreement to an applicant who does not have a Dun and Bradstreet Database Universal Number (DUNS) and is not registered in the Central Contractor Registry (CCR). A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished to include the overall project goal(s), major tasks to achieve the goals(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to achieve all project tasks? Does the proposal contain project management and staffing plans that are realistic and sufficient to complete the project within the project time frame?

Project Management/Administration (25%)

Does the applicant identify reasonable objectives, milestones, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.603—Technical Assistance/Clearinghouse. You are subject to the provisions of Executive Order 12372. The order allows states the option of setting up a system for reviewing applications from within their states for assistance under certain Federal programs. You must notify the Single State Point of Contact in your state, if it exists, of this application before NIC can make an award. Applicants (other than Indian tribal governments recognized by the Federal government) should contact their State Single Point of Contact (SPOC), a list of which can be found at http://www.whitehouse.gov/omb/grants_spoc. Check the appropriate box in section 16 of the SF-424.

Robert M. Brown, Jr.,
Acting Director, National Institute of Corrections.

[FR Doc. 2013-13948 Filed 6-11-13; 8:45 am]

BILLING CODE 4410-36-P